DEPARTMENT OF THE INTERIOR

National Park Service

[NPS-WASO-NAGPRA-NPS0031611; PPWOCRADN0-PCU00RP14.R50000]

Notice of Inventory Completion: American Museum of Natural History, New York, NY; Correction

AGENCY: National Park Service, Interior.

ACTION: Notice; correction.

SUMMARY: The American Museum of Natural History has corrected an inventory of human remains and associated funerary objects, published in a Notice of Inventory Completion in the Federal Register on September 8, 2020. This notice corrects the minimum number of individuals. Lineal descendants or representatives of any Indian Tribe or Native Hawaiian organization not identified in this notice that wish to request transfer of control of these human remains and associated funerary objects should submit a written request to the American Museum of Natural History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the American Museum of Natural History at the address in this notice by May 3, 2021.

ADDRESSES: Nell Murphy, American Museum of Natural History, Central Park West at 79th Street, New York, NY 10024, telephone (212) 769-5837, email nmurphy@amnh.org.

SUPPLEMENTARY INFORMATION: Notice is here given in accordance with the Native American Graves Protection and Repatriation Act (NAGPRA), 25 U.S.C. 3003, of the correction of an inventory of human remains and associated funerary objects under the control of the American Museum of Natural History, New York, NY. The human remains and associated funerary objects were removed from Fox Farm, May's Lick vicinity, in Mason County, KY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals published in a Notice of Inventory Completion in the Federal Register (85 FR 55486-55487, September 8, 2020). Museum staff discovered an inadvertent omission of one set of human remains from the original Notice of Inventory Completion. Transfer of control of the items in this correction notice has not occurred.

Correction

In the Federal Register (85 FR 55486, September 8, 2020), column 3, paragraph 2, sentence 1 is corrected by substituting the following sentence:

In 1895, human remains representing, at minimum, 188 individuals were removed from May's Lick Vicinity, Fannie Fox Farm, Fox Farm Mason County, KY.

In the Federal Register (85 FR 55486, September 8, 2020), column 3, paragraph 2, sentence 4 is corrected by substituting the following sentence:

The human remains include 32 adult males; seven adults who may be male; 33 adult females; seven adults who may be female; 33 adults of indeterminate sex; three individuals whose age and sex are indeterminate; and 73 subadults. No known individuals were identified.

In the Federal Register (85 FR 55487, September 8, 2020), column 1, paragraph 1, sentence 1 is corrected by substituting the following sentence:

Pursuant to 25 U.S.C. 3001(9) the human remains described in this notice represent the physical remains of 188 individuals of Native American ancestry.

Additional Requestors and Disposition

Lineal descendants or representatives of any Indian Tribe or Native Hawaiian organization not identified in this notice that wish to request transfer of control of these human remains and associated funerary objects should submit a written request with information in support of the request to Nell Murphy, American Museum of Natural History, Central Park West at 79th Street, New York, NY 10024, telephone (212) 769-5837, email nmurphy@amnh.org, by May 3, 2021. After that date, if no additional requestors have come forward, transfer of control of the human remains and associated funerary objects to the Cherokee Nation; Eastern Band of Cherokee Indians; and the United Keetoowah Band of Cherokee Indians in Oklahoma may proceed.

The American Museum of Natural History is responsible for notifying The Consulted Tribes that this notice has been published.

Dated: March 16, 2021.
Melanie O'Brien,
Manager, National NAGPRA Program.

[FR Doc. 2021-06659 Filed 3-31-21; 8:45 am]

BILLING CODE 4312-52-P